DEPARTMENT OF DEFENSE

Department of the Army; Corps of Engineers

Notice of Availability of the Final 1999 Programmatic Environmental Impact Statement for the Dredged Material Management Plan for the Port of New York and New Jersey

AGENCY: Department of the Army, U.S. Army Corps of Engineers, DoD.

ACTION: Updated information on the original Notice of Availability listing.

SUMMARY: The responsible lead agency is the U.S. Army Corps of Engineers—New York District (District). The Dredged Material Management Plan (DMMP) project area is in the Port of New York/New Jersey and includes the New York Bight Apex, the Lower Bay Complex (Lower Bay, Raritian and Sandy Hook Bays), the Upper Bay Complex (Hudson and East Rivers, Kill Van Kull, and Newark Bay), and the lands contiguous to these water bodies for a radius of approximately 20 miles. The study area approximates the boundaries of the Port Authority of New York and New Jersey (PANY/NJ). The Final Programmatic Environmental Impact Statement (PEIS) that was listed in the October 31, 2008 Federal Register (73 FR 64944) completed the NEPA process, laying out the goals and generic impacts of the alternatives considered in preparing the overall DMMP. This finalized PEIS includes Appendix (D) which lists the comments received during the draft PEIS comment period. Comments, if warranted, were incorporated into the main text of the final PEIS as well.

It should be noted that the DMMP outlines a series of goals and an overall master plan on meeting the dredged material needs of the Port through 2062. Its alternatives analysis is, as of necessity, generic in nature, identifying potential concerns, generic impacts and overall issues to be considered in greater site-specific detail before implementing any alternative in a given location. As such, it does not recommend or prioritize any site-specific alternative, but clearly sets out the process to be followed should any of the alternatives be implemented. Since no sustentative changes or addition of new alternatives to the DMMP have been identified that would alter the discussion or conclusion of generic impacts in the FPEIS, a supplemental PEIS was not deemed warranted. However, separate 2005 and 2008 DMMP Update reports are available tracking the progress in meeting the DMMP goals and a copy of the latest update is included with the Final PEIS as Appendix A. As individual site-specific projects are initiated to implement various DMMP goals individual NEPA and/or permit documents will continue to be prepared by the implementing agencies.

DATES: The formal comment period for the Final PEIS has been extended to February 1, 2009. Comments received will be considered by the District in decision-making for the Final PEIS's Record of Decision.

ADDRESSES: Additional requests for the DMMP and Final PEIS can be made by post card to the following address: U.S. Army Corps of Engineers, New York District, Planning Division-Environmental Analysis Branch, Jacob K. Javits Federal Building, 26 Federal Plaza—Room 2151, New York, NY 10278-0090.

FOR FURTHER INFORMATION CONTACT: Christopher Ricciardi, Ph.D., Environmental Coordinator can be contacted at (917) 790-8630 or by e-mail at christopher.g.ricciardi@usace.army.mil.

SUPPLEMENTARY INFORMATION: Several authorities exist to conduct navigation studies and maintain the New York Harbor, these include the Rivers and Harbors Appropriation Act of 1899 (33 U.S.C. 401-466n), the Federal Water Pollution Control Act of 1972 (Clean Water Act-CWA), and the Marine Protection, Research and Sanctuaries Act of 1972 (MPRSA). With respect to the preparation of the DMMP, District planning guidance stated in EC1165-2-200 requires each district to maintain responsibility for preparation of long-term plans to maintain navigation projects.

The New York/New Jersey Harbor encompasses approximately two-dozen separately authorized and maintained Federal navigation channels. These projects, which range in authorized depth from 8-50 feet, combined with privately operated berthing areas have historically generated 2-4 million cubic yards of dredged material annually from maintenance of required depths. Further, several of these channels are either under construction or in the planning phase for deepening in the upcoming years to accommodate larger vessels that will need to use the Port. The construction of these deeper channels will generate substantial amounts of dredged material. The 2008 DMMP Update seeks to identify options to manage the material generated from both the Federal and non-Federal maintenance and deepening of the Port through the year 2065.

The District held scoping meetings with the public on this plan during February and April 1997. A Notice of Intent (NOI) to produce a PEIS including an outline of the scope was published in the Federal Register on February 24, 1998. Subsequently, meetings on the topics to be covered in the Draft PEIS were held during April 1998. Written comments were considered in the promulgation of the Draft PEIS.

After distribution of the Draft PEIS to the public during September 1999, four public meetings on the document were held during November 1999. Written comments and taped verbal statements gathered at these meetings, letters and e-mails received during the comment period were considered in the promulgation of the Final PEIS.

The DMMP also considered the Harbor Estuary Program (HEP) and its Comprehensive Conservation and Management Plan (CCMP) that was signed by the agencies with responsibilities for the Port and its environment. Further, for the last several years the New York/New Jersey Regional Dredging Team (RDT), comprised of representatives from the District, PANY/NJ, the States of NY and NJ, and the USEPA, has been meeting monthly to discuss current and future needs and disposal/management options. The RDT will continue to coordinate in order to keep abreast of current and developing placement opportunities and technologies as the DMMP is implemented.

The 2008 DMMP Update and Final 1999 PEIS are available on CD in PDF format and are downloadable through the District's Web page: http://www.nan.usace.army.mil/business/prjlinks/dmmp/index.htm.

Printed copies of the DMMP and Final PEIS are also available upon request.

Brenda S. Bowen,
Army Federal Register Liaison Officer.

[FR Doc. E8-30368 Filed 12-19-08; 8:45 am]

BILLING CODE 3720-58-P